FEDERAL ELECTION COMMISSION

[NOTICE 2022-24]

Filing Dates for the Virginia Special Election in the 4th Congressional District

AGENCY: Federal Election Commission.

ACTION: Notice of filing dates for special election.

SUMMARY: Virginia has scheduled a special election on February 21, 2023, to fill the U.S. House of Representatives seat in the 4th Congressional District held by the late Representative A. Donald McEachin. Committees required to file reports in connection with the Special General Election on February 21, 2023, shall file a 12-day Pre-General and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Virginia Special General Election shall file a 12-day Pre-General Report on February 9, 2023, and a 30-day Post-General Report on March 23, 2023. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Virginia Special General Election by the close of books for the applicable report(s). (See charts below for the closing date for each report.)

Since disclosing financial activity from two different calendar years on one report would conflict with the calendar year aggregation requirements stated in the Commission's disclosure rules, unauthorized committees that trigger the filing of the Pre-General Report will be required to file this report on two separate forms: one form to cover 2022 activity, labeled as the Year-End Report; and the other form to cover only 2023 activity, labeled as the Pre-General Report. Both forms must be filed by February 9, 2023.

Committees filing monthly that make contributions or expenditures in connection with the Virginia General Election will continue to file according to the monthly reporting schedule.

Additional disclosure information for the Virginia special election may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling disclosure threshold during the special election reporting periods. (See charts below for closing date of each period.) 11 CFR 104.22(a)(5)(v), (b), 110.17(e)(2), (f).

The lobbyist bundling disclosure threshold for calendar year 2022 is $20,200. This threshold amount may increase in 2023 based upon the annual cost of living adjustment (COLA). Once the adjusted threshold amount becomes available, the Commission will publish it in the Federal Register and post it on its website.

¹ The reporting period always begins the day after the closing date of the last report filed. If the committee is new and has not previously filed a report, the first report must cover all activity that occurred before the committee registered as a political committee up through the close of books for the first report due.

² Notice that this filing deadline falls on a weekend or federal holiday. Filing deadlines are not extended when they fall on nonworking days. Accordingly, reports filed on paper by methods other than registered, certified or overnight mail must be received before the Commission's close of business on the last business day before the deadline.

Calendar of Reporting Dates for Virginia Special Election Campaign Committees Involved in the Special General (02/21/2023) Must File
Report | Close of books ¹ | Reg./cert. & overnight mailing deadline | Filing deadline
Year-End | —WAIVED—
Pre-General | 02/01/2023 | 02/06/2023 | 02/09/2023
Post-General | 03/13/2023 | 03/23/2023 | 03/23/2023
April Quarterly | 03/31/2023 | 04/15/2023 | ² 04/15/2023

PACs and Party Committees Not Filing Monthly Involved in the Special General (02/21/2023) Must File
Report | Close of books ¹ | Reg./cert. & overnight mailing deadline | Filing deadline
Year-End | —WAIVED—
Pre-General | 02/01/2023 | 02/06/2023 | 02/09/2023
Post-General | 03/13/2023 | 03/23/2023 | 03/23/2023
Mid-Year | 06/30/2023 | 07/31/2023 | 07/31/2023

Dated: December 16, 2022.
On behalf of the Commission.
Allen Dickerson,
Chairman, Federal Election Commission.

[FR Doc. 2022-27780 Filed 12-21-22; 8:45 am]

BILLING CODE 6715-01-P